COMMISSION ON CIVIL RIGHTS

Agenda and Notice of Public Meetings of the New York Advisory Committee

Dates and Times:

Friday, January 10, 2014, 12:00 p.m. [EST].

Friday, February 14, 2014, 12:00 p.m. [EST].

Friday, March 14, 2014, 12:00 p.m. [EST].

Place: Via Teleconference. Public Dial-in 1-877-446-3914; Listen Line Code: 7017771.

TDD: Dial Federal Relay Service 1-800-977-8339 and give the operator the Public Dial-in number and Listen Line Code.

Notice is hereby given, pursuant to the provisions of the rules and regulations of the U.S. Commission on Civil Rights (Commission) and the Federal Advisory Committee Act (FACA), that planning meetings of the New York Advisory Committee to the Commission will convene via conference call on the above-referenced dates and times. The purpose of the meetings is project planning to discuss the scope of the Advisory Committee's project on disparate treatment of youth in the New York correctional system.

The meetings will be conducted via conference call. In order to reserve a sufficient number of lines, members of the public, including persons with hearing impairments, who wish to listen to the conference call, are asked to either call (202-376-7533) or email the Eastern Regional Office, ERO, (ero@usccr.gov) ten days in advance of each scheduled meeting. Persons with hearing impairments would first dial the Federal Relay Service TDD: 1-800-977-8339 and give the operator the Eastern Regional Office number (202-376-7533).

Members of the public who call-in can expect to incur charges for calls they initiate over wireless lines, and the Commission will not refund any incurred charges. Callers will incur no charges for calls initiated over land-line connections to the toll-free telephone number.

Members of the public are entitled to submit written comments. The comments must be received in ERO by 30 days after each meeting date. Comments may be mailed to the Eastern Regional Office, U.S. Commission on Civil Rights, 1331 Pennsylvania Avenue, Suite 1150, Washington, DC 20425, faxed to (202) 376-7548, or emailed to ero@usccr.gov. Persons who desire additional information may contact the Eastern Regional Office at 202-376-7533.

Records generated from this meeting may be inspected and reproduced at the Eastern Regional Office, as they become available, both before and after the meeting. Persons interested in the work of this advisory committee are advised to go to the Commission's Web site, www.usccr.gov, or to contact the Eastern Regional Office at the above phone number, email or street address.

The meetings will be conducted pursuant to the provisions of the rules and regulations of the Commission and FACA.

Dated: December 11, 2013.
David Mussatt,
Acting Chief, Regional Programs Coordination Unit.

[FR Doc. 2013-29815 Filed 12-13-13; 8:45 am]

BILLING CODE 6335-01-P